DEPARTMENT OF AGRICULTURE

Animal and Plant Health Inspection Service

9 CFR Parts 71, 77, 78, 79, and 80

[Docket No. APHIS-2007-0096]

RIN 0579-AC72

Official Animal Identification Numbering Systems

AGENCY: Animal and Plant Health Inspection Service, USDA.

ACTION: Proposed rule.

SUMMARY: We are proposing to amend the domestic livestock regulations to require that when animal identification numbers (AINs) are used, only those numbers beginning with the 840 prefix will be recognized as official for use on all AIN tags applied to animals 1 year or more after the date on which this proposed rule is finalized. In addition, we are proposing to require that all new premises identification numbers (PINs) that are issued on or after the effective date of this rule use the seven-character alphanumeric code format. Official eartags that use a premises based numbering system issued after a 1-year phase-in period will be required to use the seven-character alphanumeric code format as well. Further, we are proposing several changes pertaining to the use of the U.S. shield on official eartags, numbering systems that use such eartags, and the correlation of those numbering systems with the PIN. These proposed changes are intended to achieve greater standardization and uniformity of official numbering systems and eartags used in animal disease programs and to enhance animal traceability, as discussed in previous Federal Register documents pertaining to the National Animal Identification System.

DATES: We will consider all comments that we receive on or before March 16, 2009.

ADDRESSES: You may submit comments by either of the following methods:

• Federal eRulemaking Portal: Go to http://www.regulations.gov/fdmspublic/component/main?main=DocketDetail&d=APHIS-2007-0096 to submit or view comments and to view supporting and related materials available electronically.

• Postal Mail/Commercial Delivery: Please send two copies of your comment to Docket No. APHIS-2007-0096, Regulatory Analysis and Development, PPD, APHIS, Station 3A-03.8, 4700 River Road Unit 118, Riverdale, MD 20737-1238. Please state that your comment refers to Docket No. APHIS-2007-0096.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. John Wiemers, Senior Staff Officer, National Animal Identification Staff, VS, APHIS, 2100 S. Lake Storey Rd., Galesburg, IL 61401; (309) 344-1942.

SUPPLEMENTARY INFORMATION:

Background

As part of its ongoing efforts to safeguard animal health, the U.S. Department of Agriculture (USDA) has launched a series of initiatives to provide national standards for animal disease traceability. These include the National Animal Identification System (NAIS), a cooperative State/Federal/industry program administered by the USDA's Animal and Plant Health Inspection Service (APHIS).

In an interim rule effective and published in the Federal Register on November 8, 2004 (69 FR 64644-64651, Docket No. 04-052-1), we amended the regulations to recognize additional numbering systems for the identification of animals in interstate commerce and State/Federal/industry cooperative disease control and eradication programs. Additionally, the interim rule amended the regulations to authorize the use of a numbering system to identify premises where animals are managed or held. Specifically, the interim rule recognized the animal identification number (AIN) for the identification of individual animals, the group/lot identification number (GIN) for the identification of groups or lots of animals, and the premises identification number (PIN) for the identification of premises. These numbering systems are important national standards for improved animal disease traceability and are key elements in the NAIS.

On July 18, 2007, APHIS adopted that interim rule as a final rule (72 FR 39301-39307, Docket No. 04-052-2) ¹ with several changes. Neither the interim rule nor the final rule required the use of the AIN, the GIN, or the PIN.

¹ To view the interim rule, the comments we received, and the subsequent final rule, go to http://www.regulations.gov/fdmspublic/component/main?main=DocketDetail&d=APHIS-2004-0018.

Standardization of the AIN

The regulations established by the November 2004 interim rule and the July 2007 final rule describe the AIN as a number containing 15 digits, with the first 3 being the country code (840 for the United States), the alpha characters USA, or the numeric code assigned to the manufacturer of the identification device by the International Committee on Animal Recording. APHIS decided to recognize as official AINs beginning with the letters USA or a manufacturer's code in order to avoid placing an excessive burden on producers who were already using either of those two numbering systems for identifying their animals. Only recognizing AINs with the country code 840 would have required producers to retag their animals.

Moving to one uniform, standardized, technology-neutral numbering system for the identification of livestock, however, is essential to achieving more efficient and effective animal disease traceability. Therefore, in the Supplementary Information section of our July 2007 final rule, we noted that we viewed the USA and manufacturer's code numbering systems as transitional. We anticipated phasing them out as we focused our efforts on moving toward a single system whereby APHIS would recognize as official only the AIN with the 840 prefix to the extent practical. We further indicated that we would provide additional information about the transition process in future rulemaking.

We are now proposing to amend the regulations to recognize as official only AINs beginning with 840 for use on all AIN tags applied to animals 1 year or more after the date of the finalization of this proposed rule. AINs with USA and manufacturer's code prefixes imprinted on eartags would not be recognized as official identification numbers for animals born on or after the date upon which the proposed requirement becomes effective. We would amend the definitions of animal identification number (AIN) and official eartag in 9 CFR 71.1, 77.2, 78.1, 79.1, and 80.1 accordingly. We believe that requiring the 840 AIN format for AIN tags applied to animals 1 year or more after this proposed rule is finalized would provide enough advance notice to inform and educate producers, allow them to work through existing inventories of eartags, and make the transition achievable on a large scale. Since this proposed requirement would apply only to animals tagged 1 year or more after the finalization of this proposed rule, it would not be necessary to retag animals that had been officially identified prior to that date.

The entire transition period, i.e., the time it would take for all animals with AIN eartags to have AINs with the 840 prefix, would likely last for many years. Breeding beef cattle, for instance, typically live 10 years or more. Young calves selected for breeding and identified in the fall of 2008 could conceivably still be wearing eartags with USA or manufacturer's code AINs in 2018 and beyond. It is not our intent at this time to set a date by which AIN eartags in adult animals must conform to the 840 standard.

As was the case with the November 2004 interim rule and the July 2007 final rule, this proposed rule would not require the use of the AIN. Other animal identification numbering systems currently recognized in the regulations for use on official eartags, such as the National Uniform Eartagging System and premises-based numbering systems that combine a PIN with a producer's livestock production numbering system, would continue to be so recognized. If the AIN is used, however, on an official eartag or other device (currently, it is only used on eartags and implants), only the format with the 840 prefix would be acceptable for use on animals tagged 1 year or more after the date on which this proposed rule is finalized.

Standardization of the PIN

While premises-based numbering systems that employ the PIN may be used for the identification of individual animals, the fundamental purpose of a PIN is to identify locations in the United States where livestock and/or poultry are housed or kept. Premises identification has value in and of itself, even if the animals on a given premises are not identified individually. When animal health officials know where at-risk animals and locations are and have accurate, up-to-date contact information for their owners, they can respond quickly and strategically to prevent disease spread.

The existing regulations recognize two types of PINs. The first consists of the two-letter postal abbreviation of the State in which the premises is located, followed by a number assigned to the premises by a State animal health official. The second is a seven-character alphanumeric code, with the right-most character being a check digit. The check digit number is based upon the ISO 7064 Mod 36/37 check digit algorithm. The latter format is the newer one of the two, having been recognized as official in the November 2004 interim rule. As of September 2008, more than 480,000 PINs using the 7-character alphanumeric format had been issued.

Because the use of a single numbering system to represent premises in all animal-health data systems would help to standardize information and to enhance existing disease-tracing and emergency-response capabilities, we are proposing to remove the PIN format that uses the State postal abbreviation and are proposing to create a single national format for the PIN by requiring that all PINs issued on or after the date on which this proposed rule becomes effective would have to use the seven-character alphanumeric code format. We would amend the definitions of premises identification number (PIN) in §§ 71.1, 77.2, 79.1, and 80.1 accordingly.

When the change becomes effective, the postal-code PIN format would no longer be recognized as official for the identification of locations where livestock or poultry are housed or kept. Locations that are currently identified with a postal-code PIN will need to obtain a seven-character PIN for use when the assignment of a numbered location identifier is required by APHIS.

Identification eartags, as well as other devices or means of official identification, such as backtags and tattoos, that employ a premises-based numbering system that includes a PIN could not be applied to animals 1 year or later after the date on which this proposed rule is finalized if the PIN does not employ the seven-character format. As is the case with our proposed requirement for standardizing the AIN, we believe that the 1-year phase-in period for requiring the seven-character PIN on eartags and other devices using premises-based numbering systems would provide enough advance notice to inform and educate producers, allow them to work through inventories of eartags that employ postal-code PINs as a means of identifying animals, and make this transition achievable on a large scale. Animals that are currently identified with a premises-based numbering system that uses a postal-code PIN would not have to be retagged, however, as the proposed requirement is intended to be applied going forward. If the owner of the premises has obtained a new seven-character PIN, older eartags employing the postal-code PIN as a means of identifying animals would be cross-referenced with the seven-character PIN in the premises registration system maintained by the State that issued the postal-code PIN.

Official Eartags

To help us achieve our goals of increased standardization and enhanced animal traceability and to codify some identification methods that are currently in use, we are proposing a number of changes to the requirements for official eartags. These proposed changes pertain to the use of the U.S. shield on official eartags, numbering systems that may be used on such eartags, and the correlation of those numbering systems with the PIN.

Previously, the regulations required that all official eartags had to bear the U.S. shield. The shield is useful for traceback purposes because it provides a readily visible means of recognizing official animal identification devices. In the July 2007 final rule, however, we amended the definition of official eartag to require that only official eartags displaying an 840 AIN bear the U.S. shield. We narrowed the shield requirement at that time in order to allow producers using AINs beginning with USA or manufacturers' code prefixes to continue to use their existing tags rather than having to retag their animals.

In keeping with our intentions to phase out the use of those types of AINs and to achieve greater standardization in numbering systems and means and methods of animal identification, we are now proposing to revert to the earlier requirement that all official eartags bear the U.S. shield. The requirement would apply to official eartags issued 1 year or more after the date of the finalization of this proposed rule. This proposed change would be complemented by another, also aimed at achieving greater standardization: We would amend the definition of official identification device or method in §§ 71.1, 78.1, and 79.1 to state that, going forward, the U.S. shield would be reserved only for use on official identification devices approved by APHIS, i.e., that it could not be used on any unofficial identification devices. As is the case with our proposed 840 AIN requirement, the 1-year phase-in period is intended to allow producers adequate time to work through existing inventories of eartags.

Our proposed definition of official eartag would also require such eartags, including those that use the National Uniform Eartagging System, if issued or distributed in conjunction with a Federal disease program, to be correlated with the PINs of the premises to which they are issued, by means of the Animal Identification Number Management System (AINMS) or other recordkeeping systems approved by the Administrator. (Both the National Uniform Eartagging System and the AINMS are discussed in greater detail later in this document.) For this proposed requirement to be met, official eartags used in animal disease programs could only be issued, going forward, to registered premises that have PINs. In sections of the regulations that apply to sheep and goats, e.g., in § 79.1, the proposed definition would also indicate that official eartags for those species would have to be approved by APHIS for use in accordance with the scrapie regulations. Official eartags used on sheep and goats in the National Scrapie Eradication Program (NSEP) would have to be correlated with the PINs of the owner's premises and, where applicable, a flock identification number (FIN) in the National Scrapie Database. Correlating eartags with PINs would aid in tracing animals back to their farms of origin in the event of disease outbreaks.

Our proposed definition of official eartag would also require that when AIN eartags are used, the AINs would have to be correlated with the PINs of the premises to which they are issued, meaning that AIN eartags could only be issued to registered premises that have PINs. AINs would be correlated with PINs using the AINMS, which we would define in §§ 71.1, 77.2, 79.1, and 80.1 as a Web-based system maintained by APHIS to keep records of authorized AIN devices, the allocation of AINs to authorized manufacturers of AIN devices, the distribution of AIN devices to premises, and the termination of AIN tags. The definition would further state that the system could also be used to track the disposition of other official identification devices. (Further information regarding the AINMS can be found at http://animalid.aphis.usda.gov/nais/animal_id/ain_mngt_sys.shtml.) AINs used on official eartags attached to sheep and goats in the NSEP would also have to be correlated with PINs and, where applicable, FINs in the National Scrapie Database.

Additionally, in § 79.1, the proposed definition of official eartag would codify two identification numbering systems that are currently being used in the NSEP but that are not defined in the existing regulations. The change would recognize the current practice of employing the FIN, which is discussed in greater detail below, on official eartags for sheep and goats if used in conjunction with a producer's livestock production numbering system to provide a unique identification number. The proposed definition of official eartag in § 79.1 would also recognize a unique eight-character number, already in use in the NSEP, composed of the State postal abbreviation followed by two letters and four numbers for use on official eartags for sheep and goats. With either of these numbering systems, the letters “I,” “O,” or “Q” could only be used in the State postal abbreviation due to the possibility that they could be confused with the numbers “0” or “1.”

Finally, while the existing definition of official eartag allows for the use of the National Uniform Eartagging System on such tags, it does not specify the format to be used. Because either an eight- or nine-character format may be employed, as discussed below, the definitions of official eartag that would appear in the different parts covered by this proposed rule vary slightly, with each specifying the National Uniform Eartagging System format to be used, where use of the system is applicable, for the particular species and the particular animal disease program that are the subject of the part.

Flock Identification Number

At this time, the NSEP furnishes eartags to sheep and goat producers that bear a numbering system that is somewhat similar to the premises-based numbering system (a PIN combined with the producer's livestock production numbering system) discussed above. In lieu of a PIN, however, these eartags are imprinted with a unique FIN. This number, unlike the PIN, represents an animal group that is associated with one or more locations rather than a designator for a location. The FIN serves the sheep and goat industries well in their disease control and eradication efforts. The existing regulations, however, while allowing for the use of the FIN on eartags for sheep and goats in the NSEP, do not define the term as they do other types of identification numbers, such as the AIN and the PIN. Therefore, to codify current practices and help ensure uniformity and consistency in the use of flock identification numbering, we are proposing to add a definition of flock identification number (FIN) to the general requirements for interstate movement in 9 CFR part 71, to the scrapie-related requirements in part 79, and to the Johne's disease requirements in part 80. Specifically, in §§ 71.1, 79.1, and 80.1, we would define flock identification number (FIN) as a nationally unique number assigned by a State or Federal animal health authority to a group of animals that are managed as a unit on one or more premises and are under the same ownership. The definition would state that the FIN must begin with the State postal abbreviation, must have no more than nine alphanumeric characters, and must not contain the characters “I”,”O”, or “Q” other than as part of the State postal abbreviation. As noted earlier, the restriction on the use of those letters is intended to prevent errors that could result from confusing them with the numbers “0” and “1.” The proposed definition would further note that FINs would be linked in the National Scrapie Database to one or more PINs and could be used in conjunction with an animal number unique within the flock to provide a distinctive official identification number for an animal, or could be used in conjunction with the date and a sequence number to provide a GIN for a group of animals when group identification is allowed. As noted above, we would also amend the definition of official eartag in §§ 71.1, 79.1, and 80.1 so that it would include the FIN on the list of numbering systems that may be used on official eartags, thereby codifying the existing practice.

National Uniform Eartagging System

The definition of official eartag in §§ 71.1, 77.2, 78.1, 79.1, and 80.1 currently recognizes the National Uniform Eartagging System as a means of identifying individual animals in commerce. The system has been in use for many years, but the existing regulations do not define the term or specify a particular format. To codify existing practices, thereby helping to ensure greater standardization and uniformity in the use of this numbering system, we are proposing to add a definition of National Uniform Eartagging System to the sections cited above, with the exception of § 79.1, since that numbering system is not used in the NSEP. (The definition of official eartag in § 79.1 would be amended to remove the option of using the National Uniform Eartagging System in the NSEP.) We would define National Uniform Eartagging System as a numbering system for the official identification of individual animals in the United States providing a nationally unique identification number for each animal. An eight- or nine-character alphanumeric format, consisting of a two-number State or territory code, followed by two or three letters and four additional numbers, would be required. (The eight-character format is generally reserved for use in small livestock, such as sheep and goats, though not, as noted above, in the NSEP.) The proposed definition would also note that individual APHIS disease control programs may specify which National Uniform Eartagging System format to use.

Removal of Official Identification Devices

Current § 71.22, which was added to the regulations in the November 2004 interim rule, states that official identification devices are intended to provide permanent identification of livestock and to ensure the ability to find the source of animal disease outbreaks and prohibits the intentional removal of such devices except at the time of slaughter.

We are proposing to allow for removal of official identification devices not only at slaughter but also at other points of termination, such as rendering facilities or diagnostic laboratories. We would also allow for removal of official identification devices in compliance with Food Safety and Inspection Service (FSIS) regulations regarding the collection of all manmade animal identification and the correlation of such with carcasses through final inspection and for removal as otherwise authorized by the Administrator. These proposed changes would simply codify existing practices and would not negatively affect animal traceability.

Miscellaneous

Current § 71.19(b)(7) states that slaughter swine and feeder swine may be identified by means of an eartag or tattoo bearing a PIN. We are proposing to amend that paragraph to distinguish between the identification required for each type of swine. Tattoos are a less effective means of identifying adult slaughter swine than are eartags because the vast majority of such animals are skinned as part of the preparation of the animal carcass for meat processing. We are therefore proposing to amend § 71.19(b)(7) to require that, after a 1-year phase-in period, when the PIN is used to identify adult slaughter swine, the swine would have to be identified by an APHIS-approved eartag bearing the U.S. shield. The identification requirements for feeder swine would not change, however, since tattooing has proved to be a very reliable method of identification for those animals.

Executive Order 12866 and Regulatory Flexibility Act

This proposed rule has been reviewed under Executive Order 12866. The rule has been determined to be not significant for the purposes of Executive Order 12866 and, therefore, has not been reviewed by the Office of Management and Budget.

In accordance with 5 U.S.C. 603, we have performed an initial regulatory flexibility analysis, which is set out below, regarding the potential effects of the proposed changes on small entities. We do not currently have all the data necessary for a comprehensive analysis of the effects of this proposed rule on small entities. Therefore, we are inviting comments concerning potential effects. In particular, we are interested in determining the potential costs to eartag manufacturers and livestock producers.

This proposed rule would amend the regulations to achieve greater standardization and uniformity of official numbering systems and eartags and to codify certain existing identification methods. We propose to remove the option of using AINs that begin with the alpha characters USA or a manufacturer's code and only recognize as official those that begin with an 840 prefix. This change would apply to AINs imprinted on AIN tags applied to animals 1 year or more after the date on which this proposed rule is finalized. In addition, we are proposing to require that all new PINs issued on or after the effective date of this rule use the seven-character alphanumeric code format. Official eartags using a premises-based numbering system employing a PIN that are issued after a 1-year phase-in period will be required to use the seven-character alphanumeric code format as well. We are also proposing to require that, after a 1-year phase-in period, all official eartags applied to animals must bear the U.S. shield, and we would specify that the shield could only be used on official identification devices approved by APHIS. We would also add to the regulations definitions of flock identification number (FIN), National Uniform Eartagging System, and the AINMS. We do not expect that the addition of the AINMS to the regulations will cause any significant economic burden to any entities that may be affected by this rulemaking. The AINMS has been used successfully, and without causing difficulty for users, to record the distribution of over 10 million official tags by industry cooperators.

By requiring the use of only the 840 prefix in the AIN for AIN tags applied to animals 1 year or more after the date on which this proposed rule is finalized, we anticipate there would be enough advance notice to allow the transition to take place without placing a significant economic burden on livestock producers or on manufacturers of eartags using the AIN. Since it is not the intent of this proposed rule to set a date by which AIN eartags for all adult animals must conform to the 840 format, there should be few, if any, animals that would need to be retagged. As noted earlier, it is expected to be many years before all animals have an AIN with the 840 prefix. For instance, breeding beef cattle typically live for 10 years or more before they are slaughtered.

Requiring the use of the 840 prefix for the AIN is not expected to have significant economic effects on the livestock industry. Potential costs would include reformatting expenses for eartag manufacturers as the USA and manufacturer's code numbering systems are eliminated. Additionally, there may be obsolete inventory costs in the form of stocked eartags that were imprinted with one of the eliminated numbering systems. These potential costs may be passed on to livestock producers that purchase the new eartags. We do not have data to quantitatively estimate these potential costs at this time, and welcome public comment from affected entities with this information. However, we would not expect these potential costs to be large, because most adult animals would not need to be retagged, unless a tag is lost and needs to be replaced, and because the use of the AIN would not be required and other animal identification numbering systems currently recognized in the regulations for use on official eartags, such as the National Uniform Eartagging System and one of the premises-based numbering systems, would continue to be recognized as official. Moreover, transitioning to the use of standardized AINs would enhance APHIS' animal disease response capabilities, which would benefit livestock industries.

The current regulations recognize two forms of PINs for the official identification of premises where livestock or poultry are housed. One consists of a postal code prefix of the State in which the premises is located, followed by a number assigned to the premises by a State animal health official. A second, more recent format utilizes a seven-character alphanumeric code that was developed through discussions with industry and producer representatives. At this time, more than 480,000 PINs using the 7-character alphanumeric format have been issued, while the older format is being phased out. The use of a single numbering system to identify premises is essential in enhancing and contributing to the effectiveness of USDA's disease-tracing and emergency response capabilities. Therefore, we are proposing to require that all PINs issued on or after the effective date of this rule use the newer seven-character alphanumeric format. This action is not expected to have a significant economic effect on producers of livestock or poultry, as it is just a change in program operations, and would require minimal expenditures on the part of producers. For example, some producers who are transitioning from postal-code to seven-character PINs may have to buy additional tattoo digits, depending upon what tattoo digits they already have, but that expense, if any, would be very small. Additionally, as with the standardization of the AINs, there may be minimal costs associated with the transition away from the postal-code eartags for those producers who use a premises-based numbering system to identify their animals.

We would also require that, after a 1-year phase-in period, all official eartags would have to bear the U.S. shield. It is possible that there could be some reformatting costs for tag manufacturers as a result of this requirement, though it is important to note that eartags imprinted with the 840 prefix already bear the U.S. shield. We do not have data to quantitatively estimate these potential costs at this time. We do not anticipate costs to producers resulting from this proposed requirement, but we welcome comments and information from the public on this issue.

Currently, the NSEP furnishes eartags to sheep and goat producers that use a numbering system that is similar to the premises-based numbering system (a PIN combined with the producer's livestock production numbering system). However, in place of the PIN, NSEP imprints these eartags with a unique FIN. We are proposing to add a definition of flock identification number (FIN) to the regulations and amend the definition of official eartag to include the FIN on the list of numbering systems that may be used on official eartags. Because these proposed changes simply incorporate current practices into the regulations, we do not expect them to have an economic effect on the sheep and goat industries.

The definition of official eartag currently allows for the use of the National Uniform Eartagging System as a means of identifying individual animals in commerce. However, existing regulations do not define the term or specify the format. To provide for greater standardization and uniformity, we are proposing to add a definition of National Uniform Eartagging System, as discussed above. Because this proposed change, like the addition of the FIN definition, simply incorporates current practices into the regulations, we do not expect that there will be any economic impact on entities potentially affected by this proposed rule.

We expect that all the proposed changes discussed above would benefit affected entities by allowing for greater flexibility in some instances while enhancing traceability in the event of a disease outbreak.

The Regulatory Flexibility Act requires that agencies specifically consider the economic impact of their rules on small entities. Entities that could be economically affected by this proposed rule include eartag manufacturers, slaughtering or animal processing establishments, and livestock producers.

The proposed rule may have an effect on manufacturers of animal eartags. The U.S. Small Business Administration's (SBA's) small-entity size standard for North American Industry Classification System (NAICS) code 326199, which comprises plastic product manufacturers not otherwise identified by NAICS code, is 500 or fewer employees.² According to the 2002 Economic Census, there were 7,892 establishments in this category engaged in the manufacturing of plastic products, with over 492,000 paid employees.³ Of these 7,892 establishments, we know neither the number of operations engaged in the manufacture of plastic eartags, nor the size of these operations as it pertains to SBA size standards.

² Table of Size Standards based on NAICS 2002. Washington, DC: U.S. Small Business Administration, effective October 1, 2007. Note: NAICS code 326199 comprises establishments primarily engaged in manufacturing plastic products (except film, sheet, bags, profile shapes, pipes, pipe fittings, laminates, foam products, bottles, plumbing fixtures, and resilient floor coverings).

³ 2002 Economic Census—Manufacturing Series. Washington, DC: U.S. Census Bureau, December 2004.

In addition, there could be some indirect effects on producers of livestock in the event that any potential costs to the manufacturers of eartags are passed on to producers in the form of higher eartag prices. In 2006, there were a total of 971,400 cattle operations, 65,540 hog and pig operations, and 69,090 sheep and lamb operations.⁴ The overwhelming majority of these operations would be considered small entities according to SBA standards.⁵

⁴ USDA-NASS, 2007 Agricultural Statistics, Tables 7-18, 7-26, and 7-53. Washington, DC: National Agricultural Statistics Service.

⁵ The small entity definition for livestock producers (NAICS codes: 112111, 112120, 112210, 112410, and 112420) is one that has $750,000 or less in annual receipts, according to the SBA's Table of Size Standards.

All of the changes contained in this proposed rule are intended to strengthen USDA's ability to respond effectively in the event of a disease outbreak or other animal health event. The alternative to the proposed rule would have been to leave the regulations unchanged, thereby limiting the effectiveness of USDA's disease control programs. This was not considered a viable option; therefore, the no-action alternative was rejected.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects

9 CFR Part 71

Animal diseases, Livestock, Poultry and poultry products, Quarantine, Reporting and recordkeeping requirements, Transportation.

9 CFR Part 77

Animal diseases, Bison, Cattle, Reporting and recordkeeping requirements, Transportation, Tuberculosis.

9 CFR Part 78

Animal diseases, Bison, Cattle, Hogs, Quarantine, Reporting and recordkeeping requirements, Transportation.

9 CFR Part 79

Animal diseases, Quarantine, Sheep, Transportation.

9 CFR Part 80

Animal diseases, Livestock, Transportation.

Accordingly, we propose to amend 9 CFR parts 71, 77, 78, 79, and 80 as follows:

PART 71—GENERAL PROVISIONS

1. The authority citation for part 71 continues to read as follows:

Authority: 7 U.S.C. 8301-8317; 7 CFR 2.22, 2.80, and 371.4.

2. Section 71.1 is amended by revising the definitions of animal identification number (AIN), official eartag, official identification device or method, and premises identification number (PIN) and adding definitions of Animal Identification Number Management System (AINMS), flock identification number (FIN), and National Uniform Eartagging System in alphabetical order to read as follows:

§ 71.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording. Only the AIN beginning with the 840 prefix will be recognized as official for use on AIN tags applied to animals on or after [Insert date 1 year after effective date of final rule].

Animal Identification Number Management System (AINMS). A Web-based system maintained by APHIS to keep records of authorized AIN devices, the allocation of AINs to authorized manufacturers of AIN devices, the distribution of AIN devices to premises, and the termination of AIN tags. The AINMS may also be used for tracking the disposition of other official identification devices.

* * * * *

Flock identification number (FIN). A nationally unique number assigned by a State or Federal animal health authority to a group of animals that are managed as a unit on one or more premises and are under the same ownership. The FIN must begin with the State postal abbreviation, must have no more than nine alphanumeric characters, and must not contain the letters “I,” “O,” or “Q” other than as part of the State postal abbreviation. FINs will be linked in the National Scrapie Database to one or more premises identification numbers and may be used in conjunction with an animal number unique within the flock to provide a distinctive official identification number for an animal, or may be used in conjunction with the date and a sequence number to provide a group/lot identification number for a group of animals when group identification is permitted.

* * * * *

National Uniform Eartagging System. A numbering system for the official identification of individual animals in the United States providing a nationally unique identification number for each animal. The National Uniform Eartagging System employs an eight- or nine-character alphanumeric format, consisting of a two-number State or territory code, followed by two or three letters and four additional numbers. Official APHIS disease control programs may specify which format to employ.

* * * * *

Official eartag. An identification tag approved by APHIS to provide unique identification for individual animals. Beginning [Insert date 1 year after effective date of final rule], all official eartags applied to animals must bear the U.S. shield. The design, size, shape, color, and other characteristics of the official eartag will depend on the needs of the users, subject to the approval of the Administrator. The official eartag must be tamper-resistant and have a high retention rate in the animal. A record of all official eartags issued or distributed to premises in conjunction with a Federal disease program must be maintained by the State where the premises to which they are issued are located. The record must adequately correlate each official eartag number with the premises identification number (PIN) to which it is issued or distributed. Such correlation must be done using the Animal Identification Number Management System (AINMS) or other recordkeeping systems approved by the Administrator. Specific requirements for the distribution of official eartags bearing the Animal identification number (AIN) are provided in paragraph (2) below. Official eartags for sheep and goats must be approved for use in the scrapie program in accordance with § 79.2(f) of this subchapter. Numbers applied to official eartags must adhere to one of the following numbering systems:

(1) National Uniform Eartagging System.

(2) Animal identification number (AIN). AIN eartags attached to any animals on or after [Insert date 1 year after effective date of final rule] must display an AIN with an 840 prefix. These numbers must be correlated with the premises identification number of the premises to which they are issued using the AINMS.

(3) Premises-based number system. The premises-based number system combines a premises identification number (PIN), as defined in this section, with a producer's livestock production numbering system to provide a unique identification number. The PIN and the production number must both appear on the official tag. Official eartags using a premises-based numbering system that are issued on or after [Insert date 1 year after effective date of final rule] must employ the seven-character alphanumeric PIN format.

(4) Flock-based number system. The flock-based number system combines a flock identification number (FIN), as defined in this section, with a producer's livestock production numbering system to provide a unique identification number. The FIN and the production number must both appear and be distinct on the official tag and may not include the letters “I,” “O,” or “Q” other than as part of a State postal abbreviation.

(5) Any other numbering system approved by the Administrator for the identification of animals in commerce.

Official identification device or method. A means of officially identifying an animal or group of animals using devices or methods approved by the Administrator, including, but not limited to, official tags, tattoos, and registered brands when accompanied by a certificate of inspection from a recognized brand inspection authority. The U.S. shield is reserved only for use on official identification devices approved by APHIS and may not be used on any other devices.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or location descriptors which provide a verifiably unique location. The premises identification number may be used in conjunction with a producer's own livestock production numbering system to provide a unique identification number for an animal. It may also be used as a component of a group/lot identification number. Premises identification numbers issued on or after [Insert effective date of final rule] shall consist of a seven character alphanumeric code, with the right-most character being a check digit. The check digit number is based upon the ISO 7064 Mod 36/37 check digit algorithm.

* * * * *

3. In § 71.19, paragraph (b)(7) is revised to read as follows:

§ 71.19 Identification of swine in interstate commerce.

* * * * *

(b) * * *

(7) For adult swine moving directly to slaughter, an eartag bearing the premises identification number assigned by the State animal health official to the premises on which the swine originated, provided the eartag has been approved by APHIS and, beginning [Insert date 1 year after effective date of final rule], bears the U.S. shield. For feeder swine, an eartag or tattoo bearing the premises identification number assigned by the State animal health official to the premises on which the swine originated; and

* * * * *

4. Section 71.22 is revised to read as follows:

§ 71.22 Removal and loss of official identification devices.

Official identification devices are intended to provide permanent identification of livestock and to ensure the ability to find the source of animal disease outbreaks. Removal of these devices, including devices applied to imported animals in their countries of origin and recognized by the Administrator as official, is prohibited except at the time of slaughter; at other points of termination, such as rendering facilities or diagnostic laboratories; in compliance with Food Safety and Inspection Service regulations regarding the collection of all manmade identification and the correlation of such with carcasses through final inspection; or as otherwise authorized by the Administrator. If an official identification device is lost and it is necessary to retag an animal with a new official number, every effort should be made to correlate the new official number with the previous official number of the animal. Official identification devices are not to be sold or otherwise transferred from the premises to which they were originally issued to another premises without authorization by APHIS.

PART 77—TUBERCULOSIS

5. The authority citation for part 77 continues to read as follows:

Authority: 7 U.S.C. 8301-8317; 7 CFR 2.22, 2.80, and 371.4.

6. Section 77.2 is amended by revising the definitions of animal identification number (AIN), official eartag, and premises identification number (PIN) and adding definitions of Animal Identification Number Management System (AINMS) and National Uniform Eartagging System in alphabetical order to read as follows:

§ 77.2 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording. Only the AIN beginning with the 840 prefix will be recognized as official for use on AIN tags applied to animals on or after [Insert date 1 year after effective date of final rule].

Animal Identification Number Management System (AINMS). A Web-based system maintained by APHIS to keep records of authorized AIN devices, the allocation of AINs to authorized manufacturers of AIN devices, the distribution of AIN devices to premises, and the termination of AIN tags. The AINMS may also be used for tracking the disposition of other official identification devices.

* * * * *

National Uniform Eartagging System. A numbering system for the official identification of individual animals in the United States providing a nationally unique identification number for each animal. The National Uniform Eartagging System employs an eight-or nine-character alphanumeric format, consisting of a two-number State or territory code, followed by two or three letters and four additional numbers. Official APHIS disease control programs may specify which format to employ.

Official eartag. An identification tag approved by APHIS to provide unique identification for individual animals. Beginning [Insert date 1 year after effective date of final rule], all official eartags applied to animals must bear the U.S. shield. The design, size, shape, color, and other characteristics of the official eartag will depend on the needs of the users, subject to the approval of the Administrator. The official eartag must be tamper-resistant and have a high retention rate in the animal. All official eartags used in Federal disease programs must be correlated with the premises identification number of the premises to which they are issued using the Animal Identification Number Management System (AINMS) or other recordkeeping systems approved by the Administrator. Numbers applied to official eartags must adhere to one of the following numbering systems:

(1) National Uniform Eartagging System. The tuberculosis program requires the use of the nine-character format for cattle and bison.

(2) Animal identification number (AIN). AIN eartags attached to any animals on or after [Insert date 1 year after effective date of final rule] must display an AIN with an 840 prefix. These numbers must be correlated with the premises identification number of the premises to which they are issued using the AINMS.

(3) Premises-based number system. The premises-based number system combines a premises identification number (PIN), as defined in this section, with a producer's livestock production numbering system to provide a unique identification number. The PIN and the production number must both appear on the official tag. Official eartags using a premises-based numbering system that are issued on or after [Insert date 1 year after effective date of final rule] must employ the seven-character alphanumeric PIN format.

(4) Any other numbering system approved by the Administrator for the identification of animals in commerce.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or location descriptors which provide a verifiably unique location. The premises identification number may be used in conjunction with a producer's own livestock production numbering system to provide a unique identification number for an animal. It may also be used as a component of a group/lot identification number. Premises identification numbers issued on or after [Insert effective date of final rule] shall consist of a seven-character alphanumeric code, with the right-most character being a check digit. The check digit number is based upon the ISO 7064 Mod 36/37 check digit algorithm.

* * * * *

PART 78—BRUCELLOSIS

7. The authority citation for part 78 continues to read as follows:

Authority: 7 U.S.C. 8301-8317; 7 CFR 2.22, 2.80, and 371.4.

8. Section 78.1 is amended by revising the definitions of animal identification number (AIN), official eartag, and official identification device or method and adding definitions of Animal Identification Number Management System (AINMS) and National Uniform Eartagging System in alphabetical order to read as follows:

§ 78.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording. Only the AIN beginning with the 840 prefix will be recognized as official for use on AIN tags applied to animals on or after [Insert date 1 year after effective date of final rule].

Animal Identification Number Management System (AINMS). A Web-based system maintained by APHIS to keep records of authorized AIN devices, the allocation of AINs to authorized manufacturers of AIN devices, the distribution of AIN devices to premises, and the termination of AIN tags. The AINMS may also be used for tracking the disposition of other official identification devices.

* * * * *

National Uniform Eartagging System. A numbering system for the official identification of individual animals in the United States providing a nationally unique identification number for each animal. The National Uniform Eartagging System employs an eight-or nine-character alphanumeric format, consisting of a two-number State or territory code, followed by two or three letters and four additional numbers. Official APHIS disease control programs may specify which format to employ.

* * * * *

Official eartag. An identification tag approved by APHIS to provide unique identification for individual animals. Beginning [Insert date 1 year after effective date of final rule], all official eartags applied to animals must bear the U.S. shield. The design, size, shape, color, and other characteristics of the official eartag will depend on the needs of the users, subject to the approval of the Administrator. The official eartag must be tamper-resistant and have a high retention rate in the animal. All official eartags used in Federal disease programs must be correlated with the premises identification number of the premises to which they are issued using the Animal Identification Number Management System (AINMS) or other recordkeeping systems approved by the Administrator. Numbers applied to official eartags must adhere to one of the following numbering systems:

(1) National Uniform Eartagging System. The brucellosis program requires the use of the nine-character format for cattle.

(2) Animal identification number (AIN). AIN eartags attached to any animals on or after [Insert date 1 year after effective date of final rule] must display an AIN with an 840 prefix. These numbers must be correlated with the premises identification number of the premises to which they are issued using the AINMS.

(3) Premises-based number system. The premises-based number system combines an official premises identification number (PIN), as defined in § 71.1 of this chapter, with a producer's livestock production numbering system to provide a unique identification number. The PIN and the production number must both appear on the official tag. Official eartags using a premises-based numbering system that are issued on or after [Insert date 1 year after effective date of final rule] must employ the seven-character alphanumeric PIN format.

(4) Any other numbering system approved by the Administrator for the identification of animals in commerce.

Official identification device or method. A means of officially identifying an animal or group of animals using devices or methods approved by the Administrator, including, but not limited to, official tags, tattoos, and registered brands when accompanied by a certificate of inspection from a recognized brand inspection authority. The U.S. shield is reserved only for use on official identification devices approved by APHIS and may not be used on any other devices.

* * * * *

PART 79—SCRAPIE IN SHEEP AND GOATS

9. The authority citation for part 79 continues to read as follows:

Authority: 7 U.S.C. 8301-8317; 7 CFR 2.22, 2.80, and 371.4.

10. Section 79.1 is amended by revising the definitions of animal identification number (AIN), official eartag, official identification device or method, and premises identification number (PIN) and adding definitions of Animal Identification Number Management System (AINMS) and flock identification number (FIN) in alphabetical order to read as follows:

§ 79.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording. Only the AIN beginning with the 840 prefix will be recognized as official for use on AIN tags applied to animals on or after [Insert date 1 year after effective date of final rule].

Animal Identification Number Management System (AINMS). A Web-based system maintained by APHIS to keep records of authorized AIN devices, the allocation of AINs to authorized manufacturers of AIN devices, the distribution of AIN devices to premises, and the termination of AIN tags. The AINMS may also be used for tracking the disposition of other official identification devices.

* * * * *

Flock identification number (FIN). A nationally unique number assigned by a State or Federal animal health authority to a group of animals that are managed as a unit on one or more premises and are under the same ownership. The FIN must begin with the State postal abbreviation, must have no more than nine alphanumeric characters, and must not contain the letters “I,” “O,” or “Q” other than as part of the State postal abbreviation. FINs will be linked in the National Scrapie Database to one or more premises identification numbers and may be used in conjunction with an animal number unique within the flock to provide a unique official identification number for an animal, or may be used in conjunction with the date and a sequence number to provide a group/lot identification number for a group of animals when group identification is permitted.

* * * * *

Official eartag. An identification tag approved for use on sheep and/or goats by APHIS in accordance with § 79.2(f). Beginning [Insert date 1 year after effective date of final rule], all official eartags applied to animals must bear the U.S. shield. The design, size, shape, color, and other characteristics of the official eartag will depend on the needs of the users, subject to the approval of the Administrator. The official eartag must be tamper-resistant and have a high retention rate in the animal. Numbers to be applied to official eartags for sheep and goats must be correlated with the corresponding premises identification number and, where applicable, flock identification number in the National Scrapie Database. The numbers must adhere to one of the following numbering systems:

(1) Animal identification number (AIN). AIN eartags attached to any animals on or after [Insert date 1 year after effective date of final rule] must display an AIN with an 840 prefix. These numbers must be correlated with the premises identification number of the premises to which they are issued using the Animal Identification Number Management System (AINMS) and, if applicable, the flock identification number in the National Scrapie Database.

(2) Premises-based number system. The premises-based number system combines a premises identification number (PIN), as defined in this section, with a producer's livestock production numbering system to provide a unique identification number. The PIN and the production number must both appear and be distinct on the official tag. PINs or production numbers that contain the letters “I” or “O” may not be used as the primary identifier on official sheep or goat eartags. Official eartags using a premises-based numbering system that are issued on or after [Insert date 1 year after effective date of final rule] must employ the seven-character alphanumeric PIN format.

(3) A flock identification number (FIN), as defined in this section, is used in conjunction with a producer's livestock production numbering system to provide a unique identification number. The FIN and the production number must both appear and be distinct on the official tag and may not include the letters “I,” “O,” or “Q” other than as part of a State postal abbreviation. The FIN must be correlated in the National Scrapie Database with one or more PINs.

(4) A unique eight-character number composed of the State postal abbreviation followed by two alphanumeric characters (not including the letters “I,” “O,” or “Q”) and four numbers.

(5) Any other numbering system approved by the Administrator for the identification of sheep and goats in commerce.

* * * * *

Official identification device or method. A means of officially identifying an animal or group of animals using devices or methods approved by the Administrator, including, but not limited to, official tags, tattoos, and registered brands when accompanied by a certificate of inspection from a recognized brand inspection authority. The U.S. shield is reserved only for use on official identification devices approved by APHIS and may not be used on any other devices.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or location descriptors which provide a verifiably unique location. The premises identification number may be used in conjunction with a producer's own livestock production numbering system to provide a unique identification number for an animal. It may also be used as a component of a group/lot identification number. Premises identification numbers issued on or after [Insert effective date of final rule] shall consist of a seven-character alphanumeric code, with the right-most character being a check digit. The check digit number is based upon the ISO 7064 Mod 36/37 check digit algorithm.

* * * * *

PART 80—JOHNE'S DISEASE IN DOMESTIC ANIMALS

11. The authority citation for part 80 continues to read as follows:

Authority: 7 U.S.C. 8301-8317; 7 CFR 2.22, 2.80, and 371.4.

12. Section 80.1 is amended by revising the definitions of animal identification number (AIN), official eartag, and premises identification number (PIN) and adding definitions of Animal Identification Number Management System (AINMS), Flock Identification Number (FIN), and National Uniform Eartagging System in alphabetical order to read as follows:

* * * * *

§ 80.1 Definitions.

* * * * *

Animal identification number (AIN). A numbering system for the official identification of individual animals in the United States providing a nationally unique identification number for each animal. The AIN contains 15 digits, with the first 3 being the country code (840 for the United States), the alpha characters USA, or the numeric code assigned to the manufacturer of the identification device by the International Committee on Animal Recording. Only the AIN beginning with the 840 prefix will be recognized as official for use on AIN tags applied to animals on or after [Insert date 1 year after effective date of final rule].

Animal Identification Number Management System (AINMS). A Web-based system maintained by APHIS to keep records of authorized AIN devices, the allocation of AINs to authorized manufacturers of AIN devices, the distribution of AIN devices to premises, and the termination of AIN tags. The AINMS may also be used for tracking the disposition of other official identification devices.

* * * * *

Flock identification number (FIN). A nationally unique number assigned by a State or Federal animal health authority to a group of animals that are managed as a unit on one or more premises and are under the same ownership. The FIN must begin with the State postal abbreviation, must have no more than nine alphanumeric characters, and must not contain the letters “I,” “O,” or “Q” other than as part of the State postal abbreviation. FINs will be linked in the National Scrapie Database to one or more premises identification numbers and may be used in conjunction with an animal number unique within the flock to provide a unique official identification number for an animal, or may be used in conjunction with the date and a sequence number to provide a group/lot identification number for a group of animals when group identification is permitted.

* * * * *

National Uniform Eartagging System. A numbering system for the official identification of individual animals in the United States providing a nationally unique identification number for each animal. The National Uniform Eartagging System employs an eight- or nine-character alphanumeric format, consisting of a two-number State or territory code, followed by two or three letters and four additional numbers. Official APHIS disease programs may specify which format to employ.

Official eartag. An identification tag approved by APHIS to provide unique identification for individual animals. Beginning [Insert date 1 year after effective date of final rule], all official eartags applied to animals must bear the U.S. shield. The design, size, shape, color, and other characteristics of the official eartag will depend on the needs of the users, subject to the approval of the Administrator. The official eartag must be tamper-resistant and have a high retention rate in the animal. All official eartags used in Federal disease programs must be correlated with the premises identification number of the premises to which they are issued using the Animal Identification Number Management System (AINMS) or other recordkeeping systems approved by the Administrator. Official eartags for sheep and goats must be approved for use in the National Scrapie Eradication Program in accordance with § 79.2(f) of this subchapter. Numbers applied to official eartags must adhere to one of the following numbering systems:

(1) National Uniform Eartagging System. The Johne's program requires the use of the nine-character format for cattle.

(2) Animal identification number (AIN). AIN eartags attached to any animals on or after [Insert date 1 year after effective date of final rule] must display an AIN with an 840 prefix. These numbers must be correlated with the premises identification number of the premises to which they are issued using the AINMS.

(3) Premises-based number system. The premises-based number system combines a premises identification number (PIN), as defined in this section, with a producer's livestock production numbering system to provide a unique identification number. The PIN and the production number must both appear on the official tag. Official eartags using a premises-based numbering system that are issued on or after [Insert date 1 year after effective date of final rule] must employ the seven-character alphanumeric PIN format.

(4) A flock identification number (FIN), as defined in this section, used in conjunction with a producer's livestock production numbering system to provide a unique identification number. The FIN and the production number must both appear and be distinct on the official tag and may not include the letters “I,” “O,” or “Q” other than as part of a State postal abbreviation.

(5) In the case of sheep and goats, a unique eight-digit number composed of the State postal abbreviation followed by two letters (not including “I,” “O,” or “Q”) and four numbers.

(6) Any other numbering system approved by the Administrator for the identification of animals in commerce.

* * * * *

Premises identification number (PIN). A nationally unique number assigned by a State, Tribal, and/or Federal animal health authority to a premises that is, in the judgment of the State, Tribal, and/or Federal animal health authority, a geographically distinct location from other premises. The premises identification number is associated with an address, geospatial coordinates, and/or location descriptors which provide a verifiably unique location. The premises identification number may be used in conjunction with a producer's own livestock production numbering system to provide a unique identification number for an animal. It may also be used as a component of a group/lot identification number. Premises identification numbers issued on or after [Insert effective date of final rule] shall consist of a seven-character alphanumeric code, with the right-most character being a check digit. The check digit number is based upon the ISO 7064 Mod 36/37 check digit algorithm.

* * * * *

Done in Washington, DC, this 7th day of January 2009.
Cindy J. Smith,
Administrator, Animal and Plant Health Inspection Service.

[FR Doc. E9-353 Filed 1-13-09; 8:45 am]

BILLING CODE 3410-34-P